DEPARTMENT OF THE INTERIOR

National Park Service

[NPS-WASO-CRPS-NPS0028076; PPWOCRADI0, PPMRSCR1Y.Y00000, P103601 (199); OMB Control Number 1024-0271]

Agency Information Collection Activities; Gathering of Certain Plants or Plant Parts by Federally Recognized Indian Tribes for Traditional Purposes

AGENCY: National Park Service, Interior.

ACTION: Notice of Information Collection; request for comment.

SUMMARY: In accordance with the Paperwork Reduction Act of 1995, we, the National Park Service (NPS), are proposing to renew an information collection.

DATES: Interested persons are invited to submit comments on or before September 25, 2019.

ADDRESSES: Send written comments on this information collection request (ICR) to the Office of Management and Budget's (OMB) Desk Officer for the Department of the Interior by email at OIRA_Submission@omb.eop.gov; or by facsimile at 202-395-5806. Please provide a copy of your comments to Phadrea Ponds, Information Collection Clearance Officer, National Park Service, 1201 Oakridge Drive, Fort Collins, CO 80525; or by email at phadrea_ponds@nps.gov. Please reference OMB Control Number 1024-0271 in the subject line of your comments.

FOR FURTHER INFORMATION CONTACT: To request additional information about this ICR, contact Jennifer Talken-Spaulding, Bureau Cultural Anthropologist, National Park Service, 1849 C Street NW, Mail Stop 7360, Washington, DC 20240; or by email at jennifer_talken-spaulding@nps.gov. Please reference OMB Control Number 1024-0271 in the subject line of your comments. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On June 5, 2019, we published a Federal Register notice soliciting comments on this collection of information for 60 days, ending on August 5, 2019 (84 FR 26154). We did not receive any comments regarding this information collection.

We are again soliciting comments on the proposed ICR described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Gathering and removing plants or plant parts is currently prohibited in National Park System areas unless specifically authorized by Federal statute or treaty rights or conducted under the limited circumstances authorized by an existing regulation codified in 36 CFR 2.1(c). Regulations codified in 36 CFR part 2 allow the gathering and removal of plants or plant parts by enrolled members of federally recognized tribes for traditional purposes. The regulations authorize agreements between the NPS and federally recognized tribes to facilitate the continuation of tribal cultural practices on lands within areas of the National Park System where those practices traditionally occurred, without causing a significant adverse impact to park resources or values. The regulations:

• respect tribal sovereignty and cultural practices,

• further the government-to-government relationship between the United States and the Indian Tribes,

• provide system-wide consistency for this aspect of NPS-Tribal relations.

The agreements explicitly recognize the special government-to-government relationship between the United States and Indian Tribes, and are based upon mutually agreed upon terms and conditions subject to the requirements of 36 CFR 2.6(f). The agreements serve as the documents through which the NPS authorizes tribal gathering implemented by an accompanying permit authorized by 36 CFR 1.6. Only enrolled members of a federally recognized tribe are allowed to collect plants or plant parts, and the tribe must be traditionally associated with the specific park area. This traditional association must predate the establishment of the park. The plant gathering must meet a traditional purpose that is a customary activity and practice rooted in the history of the tribe and is important for the continuation of the tribe's distinct culture. Authorized plant gathering must be sustainable and may not result in a significant adverse impact on park resources or values. The sale and commercial use of plants or plant parts within areas of the National Park System will continue to be prohibited by the NPS regulations in 36 CFR 2.1(c)(3)(v).

The information collections associated with 36 CFR part 2 include:

(1) The initial request from a tribe that we enter into an agreement with the tribe for gathering and removal of plants or plant parts for traditional purposes. The request must include the information specified in § 2.6(c).

(2) The agreement defines the terms under which the NPS may issue a permit to a tribe for plant gathering purposes. To make determinations based upon tribal requests or to enter into an agreement, we may need to collect information from specific tribal members or tribes who make requests. The agreement must contain the information specified in § 2.6(f).

(3) Tribes may submit an appeal to the NPS to provide additional information on historical relationship of the tribe, traditional uses of plants to be gathered, and/or the impact of gathering on the resource of concern in the event of a denial by the NPS on this issue.

Title of Collection: Gathering of Certain Plants or Plant Parts by Federally Recognized Indian Tribes for Traditional Purposes, 36 CFR 2.

OMB Control Number: 1024-0271.

Form Number: None.

Type of Review: Extension of a currently approved collection.

Respondents/Affected Public: Indian Tribes.

Respondent's Obligation: Required to obtain or retain a benefit.

Frequency of Collection: On occasion.

Total Estimated Annual Nonhour Burden Cost: None.

Activity/requirement | Estimated number of annual responses | Completion time per response (Hours) | Estimated total annual burden hours
Initial Written Request from an Indian Tribal Official | 20 | 4 | 80
Agreement with Indian Tribe | 5 | 80 | 400
Appeals | 5 | 10 | 50
Total | 30 | 94 | 530

An agency may not conduct or sponsor and a person is not required to respond to a collection of information unless it displays a currently valid OMB control number.

The authority for this action is the Paperwork Reduction Act of 1995 (44 U.S.C. 3501 et seq.).

Phadrea Ponds,
Acting NPS Information Collection Clearance Officer, National Park Service.

[FR Doc. 2019-18259 Filed 8-23-19; 8:45 am]

BILLING CODE 4312-52-P